CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of the collection requirement on respondents can be properly assessed.

Currently, CNCS is soliciting comments on its proposed revised enrollment and exit forms entitled National Service Trust Enrollment Form and National Service Trust Exit Form. The Enrollment Form and Exit Forms are used by AmeriCorps members and program staff to enroll in the National Service Trust and to document the completion of AmeriCorps member's term of service. AmeriCorps requires these forms in order for members to receive a Segal Education Award.

Copies of the forms can be obtained by contacting the office listed in the ADDRESSES section of this Notice.

DATES: Written comments must be submitted to the individual and office listed in the ADDRESSES section by February 10, 2014.

ADDRESSES: You may submit comments, identified by the title of the information collection activity, by any of the following methods:

(1) By mail sent to: Corporation for National and Community Service, Attention Bruce Kellogg, 8309C, 1201 New York Avenue NW., Washington, DC 20525.

(2) By hand delivery or by courier to the CNCS mailroom at Room 8100 at the mail address given in paragraph (1) above, between 9:00 a.m. and 4:00 p.m. Eastern Time, Monday through Friday, except Federal holidays.

(3) Electronically through www.regulations.gov.

Individuals who use a telecommunications device for the deaf (TTY-TDD) may call 1-800-833-3722 between 8:00 a.m. and 8:00 p.m. Eastern Time, Monday through Friday.

FOR FURTHER INFORMATION CONTACT: Bruce Kellogg, (202) 606-6954, or by email at bkellogg@cns.gov.

SUPPLEMENTARY INFORMATION:

CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The Enrollment Form and Exit Forms are used by AmeriCorps members and program staff to enroll in the National Service Trust and to document the completion of a member's term of service, a requirement to receiving a Segal Education Award and to meet other legal and program requirements. This information is also entered electronically into the National Service Trust's database.

Current Action

CNCS seeks to renew the current information collection with some changes, principally to demographics questions, such as income levels, disability, veteran's status, citizenship status, and educational levels.

The information collection will otherwise be used in the same manner as the existing forms. CNCS also seeks to continue using the current forms until the revised forms are approved by OMB. The current application is due to expire on 05/31/2016.

Type of Review: Renewal.

Agency: Corporation for National and Community Service.

Title: National Service Trust Enrollment and Exit Forms.

OMB Number: 3045-0006.

Agency Number: None.

Affected Public: AmeriCorps members, grantee and other program staff.

Total Respondents: 160,000.

Frequency: Once per form.

Average Time per Response: Averages 10 minutes per form.

Estimated Total Burden Hours: 266,667.

Total Burden Cost (capital/startup): None.

Total Burden Cost (operating/maintenance): None.

Comments submitted in response to this notice will be summarized and/or included in CNCS's request for Office of Management and Budget approval of the information collection forms; they will also become a matter of public record.

Dated: December 5, 2013.
Maggie Taylor-Coates,
Chief of Trust Operations.

[FR Doc. 2013-29663 Filed 12-11-13; 8:45 am]

BILLING CODE 6050-28-P